DEPARTMENT OF HOMELAND SECURITY

Coast Guard

33 CFR Part 117

[Docket No. USCG-2011-0798]

Drawbridge Operation Regulations; Cape Fear River, Wilmington, NC

AGENCY: Coast Guard, DHS.

ACTION: Notice of temporary deviation from regulations.

SUMMARY: The Commander, Fifth Coast Guard District, has issued a temporary deviation from the regulations governing the operation of the Cape Fear Memorial Bridge, at mile 26.8, over Cape Fear River, at Wilmington, NC. The deviation restricts the operation of the draw span to facilitate the cleaning and painting of the structure.

DATES: This deviation is effective at 6 a.m. on August 12, 2011 thru August 26, 2011 with actual notice and from 12 a.m. on August 26, 2011 thru 11:59 p.m. December 1, 2011 with constructive notice.

ADDRESSES: Documents mentioned in this preamble as being available in the docket USCG-2011-0798 and are available online by going to http://www.regulations.gov, inserting USCG-2011-0798 in the “Keywords” box, and then clicking “Search”. This material is also available for inspection or copying the Docket Management Facility (M-30), U.S. Department of Transportation, West Building Ground Floor, Room W12-140, 1200 New Jersey Avenue, SE., Washington, DC 20590, between 9 a.m. and 5 p.m., Monday through Friday, except Federal Holidays.

FOR FURTHER INFORMATION CONTACT: If you have questions on this rule, call or e-mail Mr. Bill H. Brazier, Bridge Management Specialist, Fifth Coast Guard District, telephone (757) 636-2416, e-mail Bill.H.Brazier@uscg.mil. If you have questions on reviewing the docket, call Rene V. Wright, Program Manager, Docket Operations, (202)366-9826.

SUPPLEMENTARY INFORMATION: The North Carolina Department of Transportation, who owns and operates this vertical lift bridge, has requested a temporary deviation from the current operating regulations set out in 33 CFR 117.823, to facilitate painting of the structure.

The Cape Fear Memorial Bridge, at mile 26.8, at Wilmington NC has vertical clearances in the full open and closed position to vessels of 135 feet and 65 feet, above mean high water, respectively.

Under the regular operating schedule, the bridge opens on signal as required by 33 CFR 117.5, except that under 33 CFR 117.823, the draw need not open for the passage of vessels from 8 a.m. to 10 a.m. on the second Saturday of July and from 7 a.m. to 11 a.m. on the second Sunday of November every year. This regulation does not change the provisions of 33 CFR 117.823 and therefore the draw need not open for the passage of vessels from 7 a.m. to 11 a.m. on the second Sunday of November, specifically November 13, 2011.

Under this temporary deviation, the drawbridge will operate as follows: From 6 a.m. on August 12, 2011 until and including 11:59 on December 1, 2011, vessel openings will be provided if at least three hours advance notice is given to the bridge operator at (910) 251-5773 or via marine radio on channel 18 VHF. In addition, to accommodate scaffolding, the available vertical clearances of portions of the drawbridge (up to half of the drawbridge at one time) will be reduced by approximately four feet, to 131 feet and 61 feet above mean high water, respectively. There are no alternate routes for vessels transiting this section of the Cape Fear River. The Bridge may be opened in the event of an emergency.

Typical vessel traffic on the Cape Fear River includes a variety of vessels from freighters, tug and barge traffic, and recreational vessels. Vessels that can pass under the bridge without a bridge opening may continue to do so at anytime.

The Coast Guard has carefully coordinated the restrictions with commercial and recreational waterway users. The Coast Guard will inform all users of the waterway through our Local and Broadcast Notice to Mariners of the closure periods for the bridge so that vessels can arrange their transits to minimize any impacts caused by the temporary deviation.

In accordance with 33 CFR 117.35(e), the draw must return to its original operating schedule immediately at the end of the designated time period. This deviation from the operating regulations is authorized under 33 CFR 117.35.

Dated: August 12, 2011.
Waverly W. Gregory, Jr.,
Bridge Program Manager. By direction of the Commander, Fifth Coast Guard District.

[FR Doc. 2011-21869 Filed 8-25-11; 8:45 am]

BILLING CODE 9110-04-P